NATIONAL SCIENCE FOUNDATION

Special Emphasis Panel in Engineering Education and Centers; Notice of Meeting

In accordance with the Federal Advisory Committee Act (Pub. L. 92-463, as amended), the National Science Foundation announces the following meeting:

Name: Special Emphasis panel in Engineering Education and Centers (173)

Date and Time: May 15 & 16, 2000, 8:30 AM-5:30 PM

Place: National Science Foundation, Room 310, 4201 Wilson Blvd, Arlington, VA

Type of Meeting: Closed

Contact persons: Dr. Ernest T. Smerdon, Senior Education Associate, Engineering, Education and Centers Division, National Science Foundation, Room 585, 4201 Wilson Blvd., Arlington, VA 22230. (703) 306-1380

Purpose of Meeting: To provide advice and recommendations concerning proposals submitted to NSF for financial support.

Agenda: To review and evaluate proposals submitted to the Action Agenda Program as part of the selection process for awards.

Reason for Closing: The proposals being reviewed include information of a proprietary or confidential nature, including technical information; financial data, such as salaries; and personal information concerning individuals associated with the proposals. These matters are exempt under 5 U.S.C. 552b. (c), (4) and (6) of the Government in the Sunshine Act.

Dated: April 6, 2000.
Karen J. York,
Committee Management Officer.

[FR Doc. 00-9200 Filed 4-12-00; 8:45 am]

BILLING CODE 7555-01-M